DEPARTMENT OF HOUSING AND URBAN DEVELOPMENT

[Docket No. FR-7092-N-10]

Privacy Act of 1974; System of Records

AGENCY: Office of Policy Development and Research, HUD.

ACTION: Notice of a modified system of records.

SUMMARY: Pursuant to the provisions of the Privacy Act of 1974, as amended, the Department of the Housing and Urban Development (HUD), Office of Policy Development & Research (PD&R) is modifying a system of records, the Community Choice Demonstration (formerly the Housing Choice Voucher (HCV) Mobility Demonstration) Evaluation Data Files (CCD-EDF). The purpose of the Community Choice Demonstration Evaluation Data Files system is to serve as a repository to store, maintain, and statistically analyze all data collected through the evaluation of the Community Choice Demonstration. The modification makes updates to the system of records name, categories of records in the system, system location, record source categories, routine uses, policies and practices for storage and retrieval of records, policies and practices for retention and disposal of records, and safeguards. The updates are explained in the “Supplementary Section” of this notice.

DATES: This modification comments will be accepted on or before February 22, 2024. This SORN becomes effective immediately, while the routine uses become effective after the comment period immediately upon publication except for the routine uses, which will become effective on the date following the end of the comment period unless comments are received which result in a contrary determination.

ADDRESSES: You may submit comments, identified by the docket number or by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://www.regulations.gov including any personal information provided.

Docket: For access to the docket to read background documents or comments received go to http://www.regulations.gov.

FOR FURTHER INFORMATION CONTACT: LaDonne White; 451 Seventh Street SW, Room 10139, Washington, DC 20410, telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD's Office of Policy Development & Research (PD&R) maintains the Community Choice Demonstration (formerly the Housing Choice Voucher (HCV) Mobility Demonstration) Evaluation Data Files system of records to store the information needed to evaluate the impact of the Community Choice Demonstration on a broad range of participant outcomes. A new information collection will be added to the existing Community Choice Demonstration Evaluation Data Files. The Department will expand the data collected for the current study evaluating the impact of the Community Choice Demonstration to include information on housing quality, such as exposure to indoor pollutants and allergens, and on adult and child health, among families who are part of the Community Choice Demonstration. HUD is publishing this revised notice to reflect updates to data collection and storage. Specific changes to the SORN include:

a. System Name and Number: Updated to the Community Choice Demonstration Evaluation Data Files (CCD-EDF).

b. Categories of Records in the System: Expanded data collection of participants in the Community Choice Demonstration to clarify HUD will include additional categories of records, such as housing quality and health information, which will be stored as part of CCD-EDF.

c. System Location: Updated to include the data storage locations of the U.S. Census Bureau and of study partner, Johns Hopkins University.

d. Policies and Practices for Retrieval of Records: Updated to include date of birth, social security number, and email address.

e. Administrative, Technical, and Physical Safeguards: Updated to include the procedures and infrastructure of new study partner, Johns Hopkins University.

f. Record Source Categories: Updated to include HUD's Tenant Rental Assistance Certification System (TRACS).

g. Routine Uses: Updated the General Contracting Routing Use section to include parties working with HUD on agreements other than a contract, service, grant, or cooperative agreements.

h. Policies and Practices for Retention and Disposal of Records: Updated to describe the length of record retention.

SYSTEM NAME AND NUMBER:

Community Choice Demonstration Evaluation Data Files, HUD/PDR-09.

SECURITY CLASSIFICATION:

Unclassified.

SYSTEM LOCATION:

Abt Associates Inc., 10 Fawcett Street, Cambridge, MA and at 6130 Executive Blvd., Rockville, MD 20852; AT&T Datacenter, 15 Enterprise Ave, Secaucus, NJ 07094; Johns Hopkins University, 5801 Smith Avenue, Baltimore, MD 21209; the U.S. Census Bureau, 17101 Melford Blvd., Bowie, MD 20715; and HUD Headquarters, 451 7th Street SW, Washington, DC 20410-0001.

SYSTEM MANAGER(S):

Carol Star, Director, Program Demonstration Division, Office of Policy Development and Research, Department of Housing and Urban Development, 451 7th Street SW, Washington, DC 20410-0001, Telephone Number (202) 402-6139.

AUTHORITY FOR MAINTENANCE OF THE SYSTEM:

Section 502 of the Housing and Urban Development Act of 1970 (Public Law 91-609) (12 U.S.C. 1701z-1; 1701z-2(d) and (g)).

PURPOSE(S) OF THE SYSTEM:

The purpose of the Community Choice Demonstration Evaluation Data Files is to store the information that is needed to evaluate the impact of the Community Choice Demonstration. The information to be maintained in this records system is necessary to identify and track the participating families over the course of the study and determine the effectiveness of the interventions. The data in this system will be analyzed using statistical methods and any results shared with the public or published in any way will be reported only in the aggregate. Resulting reports will not disclose or identify any individuals or sensitive personal information.

CATEGORIES OF INDIVIDUALS COVERED BY THE SYSTEM:

Families enrolled in the Community Choice Demonstration, staff at public housing agencies (PHAs) that are administering the Community Choice Demonstration, providers of mobility services that are partnering with PHAs to administer the program, and landlords.

CATEGORIES OF RECORDS IN THE SYSTEM:

Head of household's full name, social security number, date of birth, alien registration number, unique study ID, home address, household composition, basic demographics of household members (educational attainment, relationship to head of household, employment information of adults, chronic health conditions of children etc.), housing and neighborhood status, perceptions of opportunity areas, financial well-being, individual and household earnings, responses to family qualitative interviews, and contact information.

Responses to PHA staff qualitative interviews: Respondent's full name, title or position, email address, and phone number.

Responses to mobility service providers qualitative interviews: Respondent's full name, title or position, email address, and phone number.

Responses to landlord qualitative interviews: Respondent's full name, title or position, email address, phone number, property locations, and audio recording.

Data from the Mobility Services Delivery Management Information Systems: Service recipients full name, services provided, duration and intensity of services.

Administrative data: Demographic data on tenants, including social security number, date of birth, race, sex, disability status, household members, home address, contact information, and Housing Choice Voucher program participation information for households (types and dates of program actions).

Home assessment: Demographic data on tenants, including full name, social security number, date of birth, household members, home address, contact information, and unique study ID; home measurements (e.g., indoor air quality); interviewer observations of unit and building characteristics; and responses to survey about unit air quality, pests, temperature, allergens, and child health conditions.

Child assessment: Demographic data on tenants, including full name, social security number, date of birth, household members, home address, contact information, and unique study ID; parent and child responses to survey about home environment, parenting practices, child, behavioral, education, and social functioning, child health conditions, and child's prior contact with police; child executive functioning assessment; and health care records.

Obesity and type II diabetes risk assessment: Demographic data on tenants, including full name, social security number, date of birth, household members, home address, contact information, and unique study ID; adult responses to survey about physical and mental health, chronic health conditions, and neighborhood characteristics; adult and child height, weight, and waist circumference measurements; results from adult Hemoglobin A1C test; results from adult and child accelerometers; adult blood pressure readings; and health care records.

Locational data: Data such as the address and location of participating household. These data sets will be drawn from a variety of sources, including the National Change of Address database, proprietary databases such as Accurint, and directly from participating households.

RECORD SOURCE CATEGORIES:

Program participants, housing assessment measurement data, program participants' health measurement data, landlords, PHA staff, mobility service providers, Mobility Services Delivery Management Information Systems, HUD PIH Inventory Management System/PIH Information Center, and HUD Tenant Rental Assistance Certification System (TRACS).

ROUTINE USES OF RECORDS MAINTAINED IN THE SYSTEM, INCLUDING CATEGORIES OF USERS AND PURPOSES OF SUCH USES:

(1) To a congressional office from the record of an individual, in response to an inquiry from the congressional office made at the request of that individual.

(2) To contractors, grantees, experts, consultants, Federal agencies, and non-Federal entities, including, but not limited to, State and local governments and other research institutions or their parties, and entities and their agents with whom HUD has a contract, service agreement, grant, or cooperative agreement, or other agreement for the purposes of statistical analysis and research in support of program operations, management, performance monitoring, evaluation, risk management, and policy development, or to otherwise support the Department's mission. Records under this routine use may not be used in whole or in part to make decisions that affect the rights, benefits, or privileges of specific individuals. The results of the matched information may not be disclosed in identifiable form.

(3) To contractors, grantees, experts, consultants and their agents, or others performing or working under a contract, service, grant, cooperative agreement, or other agreement with HUD, when necessary to accomplish an agency function related to a system of records. Disclosure requirements are limited to only those data elements considered relevant to accomplishing an agency function.

(4) To appropriate agencies, entities, and persons when: (1) HUD suspects or has confirmed there has breached the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(5) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(6) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

(7) To a court, magistrate, administrative tribunal, or arbitrator in the course of presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(8) To appropriate Federal, State, local, tribal, or governmental agencies or multilateral governmental organizations responsible for investigating or prosecuting the violations of, or for enforcing or implementing, a statute, rule, regulation, order, or license, where HUD determines that the information would assist in the enforcement of civil or criminal laws when such records, either alone or in conjunction with other information, indicate a violation or potential violation of law.

(9) To contractors, grantees, experts, consultants, Federal agencies, and non-Federal entities, including, but not limited to, State and local governments and other research institutions or employees or contractors, and other entities and their agents for the conduct of HUD-approved ancillary studies relevant to the evaluation of the Community Choice Demonstration. Records under this routine use may not be used in whole or in part to make decisions that affect the rights, benefits, or privileges of specific individuals. Research reports resulting from any such ancillary studies would be required to report all results in the aggregate and to ensure that no individual was identifiable.

POLICIES AND PRACTICES FOR STORAGE OF RECORDS:

Electronic and paper.

POLICIES AND PRACTICES FOR RETRIEVAL OF RECORDS:

Name, social security number, date of birth, home address, telephone number, and personal email address, and Unique Study ID.

POLICIES AND PRACTICIES FOR RETENTION AND DISPOSAL OF RECORDS:

Temporary. Destroy upon verification of successful creation of the final document or file, or when no longer needed for business use, whichever is later.

ADMINISTRATIVE, TECHNICAL, AND PHYSICAL SAFEGUARDS:

For Electronic Records: All personal data will be maintained on a secure workstation or server that is protected by a firewall and complex passwords in a directory that can only be accessed by the network administrators and the analysts actively working on the data; access rights to the data are granted to limited researchers on a need-to-know basis, and the level of access provided to each researcher is based on the minimal level required that individual to fulfill his research role; the data will be backed up on a regular basis to safeguard against system failures or disasters; and, unencrypted data will never be stored on a laptop or on a movable media such as CDs, diskettes, or USB flash drives.

For Paper Records: The site interviewers will securely store any hard copy forms with personal identifiers until they are shipped to the evaluation contractor via commercial mail services; all hard copy forms with personal identifying data (the participant agreement/informed consent form) will be stored securely in a locked cabinet that can only be accessed by authorized individuals working on the data. The locked cabinet will be stored in a locked office in a limited-access building. Additionally, permissions will be defined for each authorized user based on the user's role on the project. For example, the local site interviewer will be able to review data for study participants only for his or her own specific site. Study data will be aggregated or de-identified at the highest level possible for each required, authorized use.

RECORD ACCESS PROCEDURES:

Individuals requesting records of themselves should address written inquiries to the Department of Housing Urban and Development 451 7th Street, SW Washington, DC 20410. For verification, individuals should provide their full name, current address, and telephone number. In addition, the requester must provide either a notarized statement or an unsworn declaration made under 24 CFR 16.4.

CONTESTING RECORD PROCEDURES:

The HUD rule for accessing, contesting, and appealing agency determinations by the individual concerned are published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Document Citation: 87 FR 32179, Docket No. FR-7062-N-05, May 27, 2022.

LaDonne L. White,
Chief Privacy Officer, Office of Administration.

[FR Doc. 2024-01217 Filed 1-22-24; 8:45 am]

BILLING CODE P